DEPARTMENT OF THE TREASURY

Internal Revenue Service

Advisory Group to the Commissioner of Internal Revenue; Meeting

AGENCY: Internal Revenue Service (IRS), Treasury

ACTION: Notice.

SUMMARY: The Information Reporting Program Advisory Committee (IRPAC) will hold a public meeting on Thursday, October 23, 2003.

FOR FURTHER INFORMATION CONTACT: Ms. Jacqueline Tilghman, National Public Liaison, CL:NPL:P, Room 7569 IR, 1111 Constitution Avenue, NW., Washington, DC 20224. Telephone: 202-622-6440 (not a toll-free number). E-mail address: *public_liaison@irs.gov.

SUPPLEMENTARY INFORMATION: Notice is hereby given pursuant to section 10(a)(2) of the Federal Advisory Committee Act, 5 U.S.C. App. (1988), a public meeting of the IRPAC will be held on Thursday, October 23, 2003, from 9 a.m. to 4 p.m. in Room 2140, main Internal Revenue Service building, 1111 Constitution Avenue, NW., Washington, DC 20224. Issues to be discussed include: Tax Reporting Changes for Coverdell Educational Savings Account (ESA) Distributions, Electronic Filing of Forms 990; Form 1099-CAP Reporting, Power of Attorney—Incapacitated Spouse, Form 1042-S—Additional Code for Canadians with U.S. Addresses, Schedule K-1 Enhancements, Continuing Professional Education (CPE) Credit, and Expansion of TIN Matching System to Permit Employers to Verify Employee Social Security Numbers. Reports from the four IRPAC sub-groups, Tax Exempt & Government Entities (TE/GE), Large and Mid-Size Business (LMSB), Small Business/Self-Employed (SB/SE), and Wage & Investment (W&I), will also be presented and discussed. Last minute agenda changes may preclude advance notice. The meeting room accommodates approximately 50 people, IRPAC members and Internal Revenue Service officials inclusive. Due to limited seating and security requirements, please call Jacqueline Tilghman to confirm your attendance. Ms. Tilghman can be reached at 202-622-6440. Attendees are encouraged to arrive at least 30 minutes before the meeting begins to allow sufficient time for purposes of security clearance. Please use the main entrance at 1111 Constitution Avenue to enter the building. Should you wish the IRPAC to consider a written statement, please call (202) 622-6440, or write to: Internal Revenue Service, Office of National Public Liaison, CL:NPL:P, 1111 Constitution Avenue, NW., Room 7569 IR, Washington, DC 20224 or e-mail: *public_liaison@irs.gov.

Dated: October 7, 2003.
Robin G. Marusin,
Designated Federal Official, Branch Chief, Liaison/Tax Forum Branch.

[FR Doc. 03-25922 Filed 10-10-03; 8:45 am]

BILLING CODE 4830-01-U